DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 22, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://dms.dot.gov.

This notice of receipt of applications for special permit is published in accordance with Part 107 of the Federal hazardous materials transportation law (49 U.S.C. 5117(b); 49 CFR 1.53(b)).

Issued in Washington, DC on November 10 2008.
Delmer F. Billings,
Director, Office of Hazardous Materials, Special Permits and Approvals.

New Special Permits
Application No. | Docket No. | Applicant | Regulation(s) affected | Nature of special permits thereof
14782-N |  | Southern States, LLC, Atlanta, GA | 49 CFR 173.304a | To authorize the transportation in commerce of large pieces of electrical equipment containing a chamber which holds sulfur hexafluoride in alternative packaging. (modes 1, 2, 3).
14784-N |  | Weldship Corporation, Bethlehem, PA | 49 CFR 180.209(a) and (b) | To authorize the requalification of certain DOT-Specification Cylinders containing Division 2.1 and 2.2 gases every ten years. (modes 1, 2, 3).
14786-N |  | Fruit of the Earth, Inc., Fort Worth, TX | 49 CFR 173.306(a)(3)(v) | To authorize the transportation in commerce of certain non-refillable aluminum cylindrical containers that are leak tested by an automated in-line pressure check in lieu of the required hot water bath. (modes 1, 2, 3, 4, 5).
14787-N |  | Flexcon Industries, Randolph, MA | 49 CFR 173.306(g) | To authorize the transportation in commerce of certain fiber reinforced plastic composite cylinders containing compressed air under the exception in 49 CFR 173.306(g). (modes 1, 2, 3).
14789-N |  | Blasting Solutions, Inc., Syracuse, UT | 49 CFR 177.835(g) | To authorize the transportation in commerce of certain detonator assemblies on the same motor vehicle with any other Class I explosives when they are in separate and isolated cargo-carrying compartments powered by the same tractor, (mode 1).

[FR Doc. E8-27595 Filed 11-20-08; 8:45 am]

BILLING CODE 4910-60-M